DEPARTMENT OF COMMERCE

International Trade Administration

[A-570-983]

Drawn Stainless Steel Sinks From the People's Republic of China; Final Results of Antidumping Duty Administrative Review; Final Determination of No Shipments; 2014-2015

AGENCY: Enforcement and Compliance, International Trade Administration, Department of Commerce.

SUMMARY: On May 12, 2016, the Department of Commerce (the Department) published the preliminary results of the administrative review of the antidumping duty order on drawn stainless steel sinks from the People's Republic of China. We invited interested parties to comment but received no comments or requests for a hearing. Therefore, the final results remain unchanged from the preliminary results.

DATES: Effective August 15, 2016.

FOR FURTHER INFORMATION CONTACT: Brian Smith or Brandon Custard, AD/CVD Operations, Office II, Enforcement and Compliance, International Trade Administration, U.S. Department of Commerce, 14th Street and Constitution Avenue NW., Washington, DC 20230; telephone: (202) 482-1766, or (202) 482-1823, respectively.

SUPPLEMENTARY INFORMATION: On May 12, 2016, the Department published the Preliminary Results.¹ The POR is April 1, 2014, through March 31, 2015. We invited interested parties to comment on the Preliminary Results. We received no comments or requests for a hearing. The Department conducted this administrative review in accordance with section 751(a)(2) of the Tariff Act of 1930, as amended (the Act).

¹ See Drawn Stainless Steel Sinks From the People's Republic of China: Preliminary Results of the Antidumping Duty Administrative Review and Preliminary Determination of No Shipments; 2014-2015, 81 FR 29528 (May 12, 2016) (Preliminary Results).

Scope of the Order

The products covered by the order include drawn stainless steel sinks. Imports of subject merchandise are currently classified in the Harmonized Tariff Schedule of the United States (HTSUS) at subheadings 7324.10.000 and 7324.10.0010. Although the HTSUS subheadings are provided for convenience and customs purposes, the written description of the merchandise within the scope is dispositive.²

² For a complete description of the scope of the order, see the memorandum from Christian Marsh, Deputy Assistant Secretary for Antidumping and Countervailing Duty Operations, to Paul Piquado, Assistant Secretary for Enforcement and Compliance, entitled, “Decision Memorandum for the Preliminary Results of the 2014-2015 Administrative Review: Drawn Stainless Steel Sinks from the People's Republic of China,” (Preliminary Decision Memorandum), dated May 5, 2016, which can be accessed directly at http://enforcement.trade.gov/frn/.

Final Results of Review and Final Determination of No Shipments

As noted above, the Department received no comments concerning the Preliminary Results on the record of this segment of the proceeding. As there are no changes from, or comments upon, the Preliminary Results, the Department finds that there is no reason to modify its analysis. Thus, we continue to find that sales of subject merchandise by Guangdong Dongyuan Kitchenware Industrial Co., Ltd. (Dongyuan) were made at less than normal value (NV) during the POR. We also continue to grant separate rates to Feidong Import and Export Co., Ltd. and Ningbo Afa Kitchen and Bath Co., Ltd. Further, we continue to find that B&R Industries Limited, Zhongshan Newecan Enterprise Development Corporation, and Zhongshan Superte Kitchenware Co., Ltd./Superte invoiced as Foshan Zhaoshun Trade Co., Ltd., Shunde Foodstuffs J&C Industries Enterprise Limited, Foshan Shunde MingHao Kitchen Utensils Co., Ltd., Franke Asia Sourcing Ltd., Grand Hill Work Company, Hangzhou Heng's Industries Co., Ltd., Jiangmen Hongmao Trading Co;, Ltd., Jiangxi Zoje Kitchen & Bath Industry Co., Ltd., Ningbo Oulin Kitchen Utensils Co., Ltd. and Shunde Foodstuffs Import & Export Company Limited of Guangdong are part of the PRC-wide entity and will receive the rate of that entity. Finally, we continue to find that Kehuaxing Industrial Ltd. (Kehuaxing) made no shipments of subject merchandise during the POR. Accordingly, no decision memorandum accompanies this Federal Register notice. For further details of the issues addressed in this segment of the proceeding, see the Preliminary Results and the accompanying Preliminary Decision Memorandum. The final weighted-average dumping margins for the period April 1, 2014, through March 31, 2015 are as follows:

Producer/exporter | Weighted- average dumping margin (percent)
Guangdong Dongyuan Kitchenware Industrial Co., Ltd | 1.65
Ningbo Afa Kitchen and Bath Co., Ltd * | 1.65
Feidong Import and Export Co., Ltd * | 1.65
* These companies demonstrated that they qualified for a separate rate in this administrative review. As we did in the Preliminary Results, and consistent with the Department's practice, we continue to assign them the rate calculated for the mandatory respondent in this review.

Assessment Rates

Pursuant to section 751(a)(2)(C) of the Act, and 19 CFR 351.212(b), the Department determined, and U.S. Customs and Border Protection (CBP) shall assess, antidumping duties on all appropriate entries of subject merchandise in accordance with the final results of this review. The Department intends to issue appropriate assessment instructions directly to CBP 15 days after publication of the final results of this administrative review.

For Dongyuan, which has a weighted-average dumping margin which is not zero or de minimis (i.e., less than 0.5 percent), we calculated importer- (or customer-) specific per-unit duty assessment rates based on the ratio of the total amount of dumping calculated for the importer's (or customer's) examined sales to the total sales quantity associated with those sales, in accordance with 19 CFR 351.212(b)(1). Where an importer- (or customer-) specific assessment rate is zero or de minimis, we will instruct CBP to liquidate the appropriate entries without regard to antidumping duties.

For the respondents which were not selected for individual examination in this administrative review and which qualified for a separate rate, the assessment rate is equal to the weighted-average dumping margin assigned to Dongyuan, or 1.65 percent.

For the companies identified above as part of the PRC-wide entity, we will instruct CBP to apply an ad valorem assessment rate of 76.45 ³ percent to all entries of subject merchandise during the POR which were produced and/or exported by those companies.

³ The PRC-wide rate determined in the investigation was 76.53 percent. See Drawn Stainless Steel Sinks from the People's Republic of China: Amended Final Determination of Sales at Less Than Fair Value and Antidumping Duty Order, 78 FR 21592, 21594 (April 11, 2013). This rate was adjusted for export subsidies and estimated domestic subsidy pass through to determine the cash deposit rate (76.45 percent) collected for companies in the PRC-wide entity. See explanation in Drawn Stainless Steel Sinks From the People's Republic of China: Investigation, Final Determination, 78 FR 13019, 13025 (February 26, 2013).

The Department has refined its assessment practice in NME cases. Pursuant to this refinement in practice, for entries that were not reported in the U.S. sales databases submitted by Dongyuan, the Department will instruct CBP to liquidate such entries at the PRC-wide rate. In addition, because the Department determined that Kehuaxing had no shipments of the subject merchandise, any suspended entries that entered under Kehuaxing's rate will be liquidated at the PRC-wide rate.⁴

⁴ For a full discussion of this practice, see Non-Market Economy Antidumping Proceedings: Assessment of Antidumping Duties, 76 FR 65694 (October 24, 2011) (NME Antidumping Proceedings).

Cash Deposit Requirements

The following cash deposit requirements will be effective upon publication of the final results of this administrative review for all shipments of the subject merchandise from the PRC entered, or withdrawn from warehouse, for consumption on or after the publication date, as provided for by section 751(a)(2)(C) of the Act: (1) For the companies listed above that have a separate rate, the cash deposit rate will be that rate established in the final results of this review (except, if the rate is zero or de minimis, then a cash deposit rate of zero will be established for that company); (2) for previously investigated or reviewed PRC and non-PRC exporters that received a separate rate in a prior segment of this proceeding, the cash deposit rate will continue to be the existing exporter-specific rate; (3) for all PRC exporters of subject merchandise that have not been found to be entitled to a separate rate, the cash deposit rate will be the rate for the PRC-wide entity, which is 76.45 percent; and (4) for all non-PRC exporters of subject merchandise which have not received their own rate, the cash deposit rate will be the rate applicable to the PRC exporter(s) that supplied that non-PRC exporter. These deposit requirements, when imposed, shall remain in effect until further notice.

Reimbursement of Duties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Act.

Dated: August 5, 2016.
Ronald K. Lorentzen,
Acting Assistant Secretary for Enforcement and Compliance.

[FR Doc. 2016-19264 Filed 8-12-16; 8:45 am]

BILLING CODE 3510-DS-P